DEPARTMENT OF LABOR

Employment and Training Administration

[TA-W-51,361]

Sisiutl Fisheries, Kodiak, AK; Notice of Revised Determination on Reconsideration

By letter of April 24, 2003, the company official requests administrative reconsideration of the Department's Negative Determination Regarding Eligibility for workers and former workers of Sisiutl Fisheries, Kodiak, Alaska to apply for worker adjustment assistance, under petition number TA-W-51,361. The notice was issued on April 16, 2003, and published in the Federal Register on May 1, 2003 (68 FR 23322).

The initial petition was denied because the investigation found that the subject firm did not meet the group eligibility requirements of a primary firm under Section 222(a) of the Trade Act of 1974, as amended. The subject firm did not import fresh or chilled salmon, nor did Sisiutl Fisheries, Kodiak, Alaska shift production abroad. Furthermore, the firm's major declining customer increased its reliance on domestic purchases of fresh or chilled salmon during the relevant time period.

The petitioner states that the workers of Sisiutl Fisheries, Kodiak, Alaska, are secondarily affected because they lost at least 20 percent of their business with a salmon processor whose workers were certified eligible to apply for trade adjustment assistance.

Reconsideration findings show that the TAA petition form indicated that workers of the subject firm were secondarily affected. The company official clarified the customer information that was provided during the investigation. This new information supports the petitioner's claim that workers of Sisiutl Fisheries, Kodiak, Alaska, lost at least 20 percent of its sales to a salmon processor whose workers were certified eligible to apply for trade adjustment assistance.

Conclusion

In accordance with the provisions of the Act, I make the following revised determination:

All workers of Sisiutl Fisheries, Kodiak, Alaska, who became totally or partially separated from employment on or after March 21, 2002, through two years from the date of the certification, are eligible to apply for worker adjustment assistance under section 223 of the Trade Act of 1974.

Signed in Washington, DC this 25th day of September, 2003.
Linda G. Poole,
Certifying Officer, Division of Trade Adjustment Assistance.

[FR Doc. 03-25714 Filed 10-9-03; 8:45 am]

BILLING CODE 4510-30-P